DEPARTMENT OF COMMERCE

National Oceanic and Atmospheric Administration

RIN 0648-XW41

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (MAFMC) Protected Resources Committee will hold a public meeting via webinar.

DATES: This webinar will be held on Wednesday, June 2, 2010 from 1 p.m. to 4 p.m.

ADDRESSES: The webinar will be held at the Mid-Atlantic Fishery Management Council, 800 N. State Street, Suite 201, Dover, DE 19901; telephone: (302) 674-2331.

Council address: Mid-Atlantic Fishery Management Council, 800 N. State Street, Suite 201, Dover, DE 19901; telephone: (302) 674-2331.

FOR FURTHER INFORMATION CONTACT: Daniel T. Furlong, Executive Director, Mid-Atlantic Fishery Management Council, 800 N. State Street, Suite 201, Dover, DE 19901; telephone: (302) 526-5255.

SUPPLEMENTARY INFORMATION: Details concerning participation on the webinar will be posted on the Council's website at www.mafmc.org. Interested members of the public may participate remotely via computer and/or phone access or may attend the meeting in person at the Mid-Atlantic Council offices located at 800 North State Street, Suite 201, Dover, DE 19901.

The Committee will meet with its Advisory Panel to review the NMFS Proposed Rule to change the listing status of loggerhead sea turtles from threatened to endangered under the Endangered Species Act and develop comments for consideration by the full Council at its June meeting. In addition, the Committee will discuss NOAA's proposed options for implementing parts of the Marine Mammal Protection Act that address the incidental catch of marine mammals in foreign fisheries, including species such as whales and dolphins and develop comments for Council consideration.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: May 7, 2010.
Tracey L. Thompson,
Acting Director, Office of Sustainable Fisheries, National Marine Fisheries Service.

[FR Doc. 2010-11332 Filed 5-12-10; 8:45 am]

BILLING CODE 3510-22-S